DEPARTMENT OF HEALTH AND HUMAN SERVICES

National Institutes of Health

Office of the Director, National Institutes of Health; Notice of Meeting

Pursuant to section 10(a) of the Federal Advisory Committee Act, as amended, notice is hereby given of a meeting of the Office of AIDS Research Advisory Council.

The meeting will be open to the public via NIH Videocast. The URL link to this meeting is https://videocast.nih.gov/watch=42661. Individuals who need special assistance or reasonable accommodations should notify the Contact Person listed below in advance of the meeting.

Name of Committee: Office of AIDS Research Advisory Council.

Date: October 28, 2021.

Time: 12:00 p.m. to 4:30 p.m.

Agenda: The fifty-eighth meeting of the Office of AIDS Research Advisory Council (OARAC) will include the OAR Director's Report; updates from the HIV Clinical Guidelines Working Groups of OARAC; updates from NIH HIV-related advisory councils; special invited presentations and discussions on interagency collaboration and strategic planning; and public comment.

Place: Office of AIDS Research, National Institutes of Health, 5601 Fishers Lane, Room 2E61, Rockville, MD 20892 (Virtual Meeting).

Contact Person: Mary T. Glenshaw, Ph.D., M.P.H., Office of AIDS Research, Office of the Director, NIH, 5601 Fishers Lane, Room 2E61, Rockville, MD 20852, 240-669-2958, OARACInfo@nih.gov.

Any interested person may file written comments with the committee within 15 days of the meeting by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 13, 2021.
Tyeshia M. Roberson-Curtis,
Program Analyst, Office of Federal Advisory Committee Policy.

[FR Doc. 2021-20111 Filed 9-16-21; 8:45 am]

BILLING CODE 4140-01-P